DEPARTMENT OF ENERGY

Federal Energy Regulatory Commission

Combined Notice of Filings #1

October 13, 2020.

Take notice that the Commission received the following electric corporate filings:

.

Docket Numbers: EC21-7-000.

Applicants: Sun Streams 2, LLC.

Description: Application for Authorization Under Section 203 of the Federal Power Act, et al. of Sun Streams 2, LLC.

Filed Date: 10/9/20.

Accession Number: 20201009-5191.

Comments Due: 5 p.m. ET 10/30/20.

Take notice that the Commission received the following electric rate filings:

Docket Numbers: ER11-47-012; ER12-1540-010; ER12-1541-010; ER12-1542-010; ER12-1544-010; ER17-1930-004; ER17-1931-004; ER17-1932-004; ER14-594-014; ER11-46-015; ER11-41-012; ER12-2343-010; ER13-1896-016; ER16-323-008; ER17-2088-002; ER16-2035-002; ER20-2000-001; ER10-2596-010; ER12-2200-006; ER12-1400-007; ER11-2029-007.

Applicants: Appalachian Power Company, Indiana Michigan Power Company, Kentucky Power Company, Kingsport Power Company, Wheeling Power Company, Public Service Company of Oklahoma, AEP Texas Inc., Southwestern Electric Power Company, Ohio Power Company, AEP Energy Partners, Inc., AEP Retail Energy Partners LLC, AEP Energy, Inc., AEP Generation Resources Inc., Ohio Valley Electric Corporation, Apple Blossom Wind, LLC, Black Oak Wind, LLC, Clyde Onsite Generation, LLC, Flower Ridge II Wind Farm LLC, Mehoopany Wind Energy LLC, Flat Ridge 2 Wind LLC, Cedar Creek II, LLC.

Description: Notice of Non-Material Change in Status of the AEP Companies, et al.

Filed Date: 10/9/20.

Accession Number: 20201009-5187.

Comments Due: 5 p.m. ET 10/30/20.

Docket Numbers: ER19-460-006.

Applicants: Southwest Power Pool, Inc.

Description: Compliance filing: Order No. 841 Compliance Filing in Response to July 2020 Order to be effective 8/5/2021.

Filed Date: 10/13/20.

Accession Number: 20201013-5144.

Comments Due: 5 p.m. ET 11/3/20.

Docket Numbers: ER19-469-004.

Applicants: PJM Interconnection, L.L.C.

Description: Compliance filing: Compliance Filing Pursuant to July 16, 2020 Order re Order No. 841 to be effective 12/3/2019.

Filed Date: 10/13/20.

Accession Number: 20201013-5174.

Comments Due: 5 p.m. ET 11/3/20.

Docket Numbers: ER19-1960-004.

Applicants: Midcontinent Independent System Operator, Inc.

Description: Compliance filing: 2020-10-13_Attachment X Additional Compliance for Order 845 to be effective 12/20/2019.

Filed Date: 10/13/20.

Accession Number: 20201013-5328.

Comments Due: 5 p.m. ET 11/3/20.

Docket Numbers: ER19-2546-002.

Applicants: Tuscola Wind II, LLC.

Description: Compliance filing: Tuscola Wind II, LLC, Docket No. ER19-2546 to be effective 10/1/2019.

Filed Date: 10/13/20.

Accession Number: 20201013-5155.

Comments Due: 5 p.m. ET 11/3/20.

Docket Numbers: ER20-1449-002.

Applicants: Midcontinent Independent System Operator, Inc., Entergy Services, LLC.

Description: Tariff Amendment: 2020-10-13_Entergy NOL Amendment to be effective 6/1/2020.

Filed Date: 10/13/20.

Accession Number: 20201013-5228.

Comments Due: 5 p.m. ET 11/3/20.

Docket Numbers: ER21-90-000.

Applicants: Sun Streams 2, LLC.

Description: Initial rate filing: Market-Based Rate Application to be effective 12/9/2020.

Filed Date: 10/9/20.

Accession Number: 20201009-5171.

Comments Due: 5 p.m. ET 10/30/20.

Docket Numbers: ER21-91-000.

Applicants: Nevada Power Company.

Description: § 205(d) Rate Filing: Service Agreement No. 20-00014, NPC and Open Mountain to be effective 12/12/2020.

Filed Date: 10/13/20.

Accession Number: 20201013-5001.

Comments Due: 5 p.m. ET 11/3/20.

Docket Numbers: ER21-92-000.

Applicants: Nevada Power Company.

Description: § 205(d) Rate Filing: Service Agreement No. 20-00016 NPC and Open Mountain to be effective 12/12/2020.

Filed Date: 10/13/20.

Accession Number: 20201013-5002.

Comments Due: 5 p.m. ET 11/3/20.

Docket Numbers: ER21-93-000.

Applicants: MidAmerican Energy Company.

Description: § 205(d) Rate Filing: First Amended and Restated Facilities Agreement to be effective 9/22/2020.

Filed Date: 10/13/20.

Accession Number: 20201013-5003.

Comments Due: 5 p.m. ET 11/3/20.

Docket Numbers: ER21-94-000.

Applicants: Tri-State Generation and Transmission Association, Inc.

Description: § 205(d) Rate Filing: Amendment to Tri-State Rate Schedule No. 70 to be effective 10/14/2020.

Filed Date: 10/13/20.

Accession Number: 20201013-5175.

Comments Due: 5 p.m. ET 11/3/20.

Docket Numbers: ER21-95-000.

Applicants: Citizens Sunrise Transmission LLC.

Description: § 205(d) Rate Filing: Annual TRBAA Filing October 2020 to be effective 1/1/2021.

Filed Date: 10/13/20.

Accession Number: 20201013-5176.

Comments Due: 5 p.m. ET 11/3/20.

Docket Numbers: ER21-96-000.

Applicants: Citizens Sycamore-Penasquitos Transmission LLC.

Description: § 205(d) Rate Filing: Annual TRBAA Filing October 2020 to be effective 1/1/2021.

Filed Date: 10/13/20.

Accession Number: 20201013-5178.

Comments Due: 5 p.m. ET 11/3/20.

Docket Numbers: ER21-97-000.

Applicants: PJM Interconnection, L.L.C.

Description: § 205(d) Rate Filing: Original ISA, Service Agreement No. 5796; Queue No. AC2-112 to be effective 9/10/2020.

Filed Date: 10/13/20.

Accession Number: 20201013-5191.

Comments Due: 5 p.m. ET 11/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2020.
Nathaniel J. Davis, Sr.,
Deputy Secretary.

[FR Doc. 2020-23060 Filed 10-16-20; 8:45 am]

BILLING CODE 6717-01-P